ENVIRONMENTAL PROTECTION AGENCY

[EPA-HQ-OW-2006-0139; FRL-8254-3]

Agency Information Collection Activities; Submission to OMB for Review and Approval; Comment Request; National Pollutant Discharge Elimination System (NPDES) and Sewage Sludge Management State Program Requirements, EPA ICR Number 0168.09, OMB Control Number 2040-0057

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on December 31, 2006. Under OMB regulations, the Agency may continue to conduct or sponsor the collection of information while this submission is pending at OMB. This ICR describes the nature of the information collection and its estimated burden and cost.

DATES: Additional comments may be submitted on or before January 11, 2007.

ADDRESSES: Submit your comments, referencing docket ID number EPA-HQ-OW-2006-0139, to (1) EPA online using FDMS (our preferred method), by e-mail to ow-docket@epa.gov, or by mail to: EPA Docket Center, Environmental Protection Agency, Water Docket, Mail Code 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Lynn Stabenfeldt, Environmental Protection Agency, 1200 Pennsylvania Ave., NW., Washington, DC 20460; telephone number: 202.564.0602; fax number: 202.501.2399; e-mail address: stabenfeldt.lynn@epa.gov.

SUPPLEMENTARY INFORMATION: EPA has submitted the following ICR to OMB for review and approval according to the procedures prescribed in 5 CFR 1320.12. On March 7, 2006 (71 FR 11407-11411), EPA sought comments on this ICR pursuant to 5 CFR 1320.8(d). EPA received no comments on the draft ICR.

EPA has established a public docket for this ICR under Docket ID No. EPA-HQ-OW-2006-0139, which is available for public viewing at the Water Docket in the EPA Docket Center (EPA/DC), EPA West, Room 3334, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through the Federal Docket Management System (FDMS) at http://www.regulations.gov/. Use FDMS to submit or view public comments, access the index listing of the contents of the public docket, and to access those documents in the public docket that are available electronically. Once in the system key in the docket ID number identified above.

Any comments related to this ICR should be submitted to EPA and OMB within 30 days of this notice. EPA's policy is that public comments, whether submitted electronically or in paper, will be made available for public viewing in FDMS as EPA receives them and without change, unless the comment contains copyrighted material, CBI, or other information whose public disclosure is restricted by statute. When EPA identifies a comment containing copyrighted material, EPA will provide a reference to that material in the version of the comment that is placed in FDMS. The entire printed comment, including the copyrighted material, will be available in the public docket. Although identified as an item in the official docket, information claimed as CBI, or whose disclosure is otherwise restricted by statute, is not included in the official public docket, and will not be available for public viewing in FDMS.

Title: National Pollutant Discharge Elimination System (NPDES) and Sewage Sludge Management State Program Requirements.

ICR Numbers: EPA ICR No. 0168.09. OMB Control No. 2040-0057.

ICR Status: This ICR is scheduled to expire on December 31, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Under the NPDES program, States, Federally Recognized Indian Tribes, and U.S. Territories, hereafter referred to as States, may acquire the authority to issue permits. These governments have the option of acquiring authority to issue general permits (permits that cover a category or categories of similar discharges). States with existing NPDES programs must submit requests for program modifications to add Federal facilities, or general permit authority. In addition, as Federal statutes and regulations are modified, States must submit program modifications to ensure that their program continues to meet Federal requirements. States have the option of obtaining a sludge management program. This program may be a component of a State NPDES Program, or it may be administered as a separate program. To obtain a NPDES or sludge program, a State must submit an application that includes a program description, an Attorney General's Statement, draft Memorandum of Agreement (MOA) with the EPA Region, and copies of the State's statutes and regulations. Once a State obtains authority for an NPDES or sludge program, it becomes responsible for implementing the program in that jurisdiction. The State must retain records on the permittees and perform inspections. In addition, when a State obtains NPDES or sludge authority, EPA must oversee the program. Thus, States must submit permit information and compliance reports to the EPA. When EPA issues a permit in an unauthorized State, that State must certify that the permit requirements comply with State water laws. According to the Clean Water Act (CWA) (section 510), States may adopt discharge requirements that are equal to or more stringent than requirements in the CWA or Federal regulations. There are three categories of reporting requirements that are covered by this ICR. The first category, “State Program Requests,” includes the activities States must complete to request a new NPDES or sludge program, or to modify an existing program. The second category, “State Program Implementation,” includes the activities that approved States must complete to implement an existing program, such as certification of EPA-issued permits by non-NPDES States. The third category, “State Program Oversight,” includes activities required of NPDES States so that EPA may satisfy its statutory requirements for state program oversight. The information collected by EPA is used to evaluate the adequacy of a State's NPDES or sludge program and to provide EPA with the information necessary to fulfill its statutory oversight functions over State program performance and individual permit actions. EPA will use this information to evaluate State requests for full or partial program approval and program modifications. In order to evaluate the adequacy of a State's proposed program, appropriate information must be provided to ensure that proper procedures, regulations, and statutes are in place and consistent with the CWA requirements.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 52 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: States, Territories, and American Indian Tribal Entities.

Estimated Number of Respondents: 618.

Frequency of Response: Semi-annually, quarterly, on occasion, every 5 years, on-going.

Estimated Total Annual Hour Burden: 1,013,802 hours.

Estimated Total Annual Cost: $37,470,111, which includes $0 for capital or O&M.

Changes in the Estimates: The estimated increase in burden is 46,836 hours compared to the total estimated burden hours currently identified in the OMB Inventory of Approved ICR Burdens. This change is primarily the result of (1) EPA's continuous effort to improve the quality of data in its PCS database. This change may reflect more accurate data rather than a significant change in the number of permits actually administered. The total number of permits in PCS has decreased, but the number of major facilities has increased. (2) Changes and adjustments in the number and types of permits administered by the states and EPA under the NPDES program. Non-NPDES authorized states continue to apply for NPDES program and sludge program authorization, impacting recordkeeping and reporting, resulting in a shift of burden from Federal to State governments. (3) The shift toward the use of general permits to cover certain categories of dischargers, reducing the number of standard permits.

Dated: December 4, 2006.
Richard T. Westlund,
Acting Director, Collection Strategies Division.

[FR Doc. E6-21115 Filed 12-11-06; 8:45 am]

BILLING CODE 6560-50-P